ENVIRONMENTAL PROTECTION AGENCY

40 CFR Part 180

[EPA-HQ-OPP-2018-0006; FRL-9980-31]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before August 23, 2018.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Robert McNally, Biopesticides and Pollution Prevention Division (BPPD) (7511P), main telephone number: (703) 305-7090; email address: BPPDFRNotices@epa.gov., Michael Goodis, Registration Division (RD) (7505P), main telephone number: (703) 305-7090; email address RDFRNotices@epa.gov. The mailing address for each contact person is: Office of Pesticide Programs, Environmental Protection Agency, 1200 Pennsylvania Ave. NW, Washington, DC 20460-0001.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing its receipt of several pesticide petitions filed under section 408 of the Federal Food, Drug, and Cosmetic Act (FFDCA), 21 U.S.C. 346a, requesting the establishment or modification of regulations in 40 CFR part 180 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

Amended Tolerances

1. PP 7E8616. (EPA-HQ-OPP-2017-0674). Interregional Research Project No. 4 (IR-4), Rutgers, The State University of New Jersey, 500 College Road East, Suite 201W, Princeton, NJ 08540, proposes upon establishment of tolerances referenced in this document under “New Tolerances” for PP 7E8616, to remove existing tolerances in 40 CFR 180.658 for residues of the fungicide, penthiopyrad, (N-[2-(1,3-dimethylbutyl)-3-thienyl]-1-methyl-3-(trifluoromethyl)-1H-pyrazole-4-carboxamide) in or on the following raw agricultural commodities: Brassica, head and stem, subgroup 5A at 5.0 ppm; Brassica, leafy greens, subgroup 5B at 50 ppm; Canola at 1.5 ppm; Cotton, seed at 1.5 ppm; Fruit, stone, group 12 at 4.0 ppm; Nut, tree, group 14 at 0.06 ppm; Pistachio at 0.06 ppm; Sunflower, seed at 1.5 ppm and Vegetable, leafy, except brassica, group 4 at 30 ppm. Contact: RD.

2. PP 7E8629. (EPA-HQ-OPP-2017-0671). Interregional Research Project No. 4 (IR-4), IR-4 Project Headquarters, Rutgers, The State University of NJ, 500 College Road East, Suite 201W, Princeton, NJ 08540, requests to amend 40 CFR 180.637 by removing the tolerances for residues of mandipropamid: 4-chloro-N-[2-(3-methoxy-4-(2-propynyloxy)phenyl]ethyl]-alpha-(2-propynyloxy)-benzeneacetamide in or on the raw agricultural commodities Bean, snap at 0.90 ppm; Brassica, head and stem, subgroup 5A at 3 ppm; Brassica, leafy greens, subgroup 5B at 25 ppm; Vegetable, leafy except Brassica, group 4 at 20 ppm. Analytical method RAM 415-01 was developed for determination of mandipropamid residues in crops. Contact: RD.

3. PP 7E8644. (EPA-HQ-OPP-2018-0088). Interregional Research Project No. 4 (IR-4), IR-4 Project Headquarters, Rutgers, The State University of NJ, 500 College Road East, Suite 201W, Princeton, NJ 08540, requests to amend 40 CFR 180.505 by removing the tolerances for residues of emamectin benzoate, including its metabolites and degradates, determined by measuring only the sum of emamectin (a mixture of a minimum of 90% 4′-epi-methylamino-4′-deoxyavermectin B1a and maximum of 10% 4′-epi-methylamino-4′-deoxyavermectin B1b) and its metabolites 8,9-isomer of the B1a and B1b component of the parent (8,9-ZMA), or 4′-deoxy-4′-epi-amino-avermectin B1a and 4′-deoxy-4′-epi-amino-avermectin B1b; 4′-deoxy-4′-epi-amino avermectin B1a (AB1a); 4′-deoxy-4′-epi-(N-formyl-N-methyl)amino-avermectin (MFB1a); and 4′-deoxy-4′-epi-(N-formyl)amino-avermectin B1a (FAB1a), calculated as the stoichiometric equivalent of emamectin in or on the raw agricultural commodities Fruit, pome, group 11 at 0.025 parts per million, ppm, Nut, tree, group 14 at 0.02 ppm, Pistachio at 0.02 ppm, Turnip, greens at 0.050 ppm, Vegetable, leafy, except brassica, group 4 at 0.100 ppm, Vegetable, brassica, leafy, group 5 at 0.050 ppm, and Vegetable fruiting, group 8 at 0.020 ppm. Adequate analytical methods (HPLC-fluorescence methods) are available for enforcement purposes. Contact: RD.

4. PP 7E8648. (EPA-HQ-OPP-2018-0094). Interregional Research Project No.4 (IR-4), Rutgers, The State University of New Jersey, 500 College Road East, Suite 201W, Princeton, NJ 08540, requests to amend the tolerances in 40 CFR part 180.474 upon establishment of tolerances referenced in this document under “New Tolerances” for PP 7E8648, by removing established tolerances for residues of the fungicide tebuconazole [α-[2-(4-chlorophenyl) ethyl]-α-(1,1-dimethylethyl)-1H-1,2,4-triazole-1-ethanol], in or on the raw agricultural commodities: Brassica, leafy greens, subgroup 5B at 2.5 parts per million, ppm; Cotton, undelinted seed at 2.0 ppm; Fruit, pome, group 11 at 0.05 ppm; Fruit, stone, group 12, except cherry at 1.0 ppm; Grape at 5.0 ppm; Lychee at 1.6 ppm; Nut, tree, group 14 at 0.05 ppm; Peach at 1.0 ppm; Pistachio at 0.05 ppm; Plum, pre- and post-harvest at 1.0 ppm; Sunflower, seed at 0.05 ppm. Contact: RD.

5. PP 7E8652. (EPA-HQ-OPP-2018-0128). The Interregional Research Project Number 4 (IR-4), Rutgers, The State University of New Jersey, 500 College Road East, Suite 201W, Princeton, NJ 08540, proposes upon establishment of tolerances referenced in this document under “New Tolerances” for PP 8E8652, to remove existing tolerances in 40 CFR 180.317 for residues of the herbicide pronamide (propyzamide), 3,5-dichloro-N-(1,1-dimethyl-2-propynyl)benzamide in or on apple at 0.1 parts per million (ppm); blackberry at 0.05 ppm; blueberry at 0.05 ppm; boysenberry at 0.05 ppm; fruit, stone, group 12 at 0.1 ppm; grape at 0.1 ppm; pear at 0.1 ppm; and raspberry at 0.05 ppm. Contact: RD.

6. PP 7E8654. (EPA-HQ-OPP-2018-0161). Interregional Research Project No. 4 (IR-4), IR-4 Project Headquarters, Rutgers, The State University of NJ, 500 College Road East, Suite 201W, Princeton, NJ 08540, requests to amend 40 CFR 180.511 by removing the established tolerances for residues of buprofezin, 2-(1,1-dimethylethyl)iminotetrahydro-3(1-methylethyl)-5-phenyl-4H-1,3,5-thiadiazin-4-one in or on the raw agricultural commodities: Acerola at 0.30 parts per million (ppm); Brassica, head and stem, subgroup 5A at 12.0 ppm, Brassica, leafy greens, subgroup 5B at 60 ppm, Cotton, undelinted seed at 0.35 ppm; Fruit, citrus, group 10 at 2.5 ppm; Fruit, stone, group 12, except apricot and peach at 1.9 ppm; Grape at 2.5 ppm; Longan at 0.30 ppm; Lychee at 0.30 ppm; Nut, tree group 14 at 0.05 ppm; Olive at 3.5 ppm; Olive, oil at 4.8 ppm; Pistachio at 0.05 ppm; Spanish lime at 0.30 ppm; Turnip, greens at 60 ppm; Vegetable, leafy, except Brassica, group 4, except head lettuce and radicchio at 35 ppm; and Wax jambu at 0.30 ppm. The enforcement analytical methods are available in PAM I and PAM II for the enforcement of buprofezin tolerances, which include gas chromatography methods with nitrogen phosphorus detection (GC/NPD), and a gas chromatography/mass spectrometry (GC/MS) method for confirmation of buprofezin residues in plant commodities. Contact: RD.

7. PP 8E8658. (EPA-HQ-OPP-2018-0127). Interregional Research Project No. 4 (IR-4), Rutgers, The State University of New Jersey, 500 College Road East, Suite 201W, Princeton, NJ 08540, proposes, upon establishment of tolerances referenced in this document under “New Tolerances” for PP 8E8758, the following: (i). To remove existing tolerances in 40 CFR 180.613(a) for the residues of propiconazole, including its metabolites and degradates, in or on the raw agricultural commodities: Beet, garden, roots at 0.30 parts per million (ppm); Brassica leafy greens, subgroup 5B at 20 ppm; Carrot, roots at 0.25 ppm; Leaf petioles subgroup 4B at 5.0 ppm; Pistachio at 0.1 ppm; Radish, roots at 0.04 ppm; and Tomato at 3.0 ppm, and (ii). To amend 40 CFR 180.434(b) Section 18 emergency exemption: By removing the established time-limited tolerance for residues of propiconazole and its metabolites for Avocado at 10 ppm. Contact: RD.

8. PP 8E8664. (EPA-HQ-OPP-2018-0143). Interregional Research Project No. 4 (IR-4), IR-4 Project Headquarters, Rutgers, The State University of NJ, 500 College Road East, Suite 201W, Princeton, NJ 08540, requests to amend 40 CFR 180.449 by removing the established tolerances for residues of abamectin, including its metabolites and degradates, in or on the following commodities: Lychee at 0.01 parts per million (ppm) and Vegetable, leafy, except brassica, group 4 at 0.10 ppm. The analytical methods involve homogenization, filtration, partition, and cleanup with analysis by high performance liquid chromatography (HPLC)-fluorescence detection. The methods are sufficiently sensitive to detect residues at or above the tolerances proposed. All methods have undergone independent laboratory validation. Contact: RD.

9. PP 8E86669. (EPA-HQ-OPP-2018-0179). Interregional Research Project No. 4 (IR-4), IR-4 Project Headquarters, Rutgers, The State University of NJ, 500 College Road East, Suite 201W, Princeton, NJ 08540, requests to amend 40 CFR 180.668 by removing the established tolerances for residues of Sulfoxaflor ((N-methyloxido1-6-(trifluoromethyl)-3-pyridinyl]ethyl]-γ4-sulfanylidene]cyanamide) in or on the raw agricultural commodities: Fruit, stone, group 12 at 3.0 ppm, Leafy greens, subgroup 4A at 6.0 ppm, Leafy petiole, subgroup 4B at 2.0 ppm, Nuts, tree, group 14 at 0.015 ppm, Pistachio at 0.015 ppm and Vegetable, brassica, leafy, group 5, except cauliflower at 2.0 ppm. Analytical method 091116, “Enforcement Method for the Determination of Sulfoxaflor (XDE-208) and its Main Metabolites in Agricultural Commodities using Offline Solid-Phase Extraction and Liquid Chromatography with Tandem Mass Spectrometry Detection” was validated on a variety of plant matrices. Contact: RD.

10. PP 8E8673. (EPA-HQ-OPP-2018-0286). Interregional Research Project Number 4 (IR-4), Rutgers, The State University of New Jersey, 500 College Road East, Suite 201W, Princeton, NJ 08540, proposes upon establishment of tolerances referenced in this document under “New Tolerances” for PP 8E8673, to remove existing tolerances in 40 CFR 180.414 for residues of the insecticide cyromazine, (N-cyclopropyl-1,3,5-triazine-2,4,6-triamine) in or on cabbage, abbyssinian at 10.0 parts per million (ppm); cabbage, seakale at 10.0 ppm, garlic at 0.2 ppm; garlic, great-headed, bulb at 0.2 ppm; hanover salad, leaves at 10.0 ppm; leek at 3.0 ppm; onion, bulb at 0.2 ppm; onion, green at 3.0 ppm; onion, potato at 3.0 ppm; onion, tree at 3.0 ppm; onion, welsh at 3.0 ppm; pepper at 1.0 ppm; potato at 0.8 ppm; rakkyo, bulb at 0.2 ppm; shallot, bulb at 0.2 ppm; shallot, fresh leaves at 3.0 ppm; tomato at 0.5 ppm; turnip, greens at 10.0 ppm; vegetable, brassica, leafy, group 5, except broccoli at 10.0; vegetable, leafy, except brassica, group 4 at 7.0 ppm. The analytical methods AG-408 and AG-417 are used to measure and evaluate the chemical cyromazine. Contact: RD

New Tolerance Exemptions for Inerts (Except PIPS)

PP IN-11080. (EPA-HQ-OPP-2018-0202). OMC Ag Consulting, Inc., 828 Tanglewood Ln., East Lansing, MI 48823, on behalf of Nutri Ag Inc., 4740 N Interstate 35 E., Waxahachie, TX 75165, requests to establish an exemption from the requirement of a tolerance for residues of protein hydrolyzates, animal (CAS Reg. No. 100085-61-8) when used as an inert ingredient (carrier) in pesticide formulations applied to growing crops and raw agricultural commodities under 40 CFR 180.910. The petitioner believes no analytical method is needed because it is not required for an exemption from the requirement of a tolerance. Contact: RD.

New Tolerance Exemptions for Non-Inerts (Except PIPS)

PP 8F8670. (EPA-HQ-OPP-2018-0244). Monsanto Company, 800 N Lindbergh Blvd., St. Louis, MO 63167, requests to establish an exemption from the requirement of a tolerance in 40 CFR part 180 for residues of the plant regulator LCO MOR116 (chemical name: D-glucose, O-6-deoxy-2-O-methyl-α-L-galactopyranosyl-(1→6)-O-[O-2-deoxy-2-[[(11Z)-1-oxo-11-octadecen-1-yl]amino]-β-D-glucopyranosyl-(1→4)-O-2-(acetylamino)-2-deoxy-β-D-glucopyranosyl-(1→4)-O-2-(acetylamino)-2-deoxy-β-D-glucopyranosyl-(1→4)-2-(acetylamino)-2-deoxy-β-D-glucopyranosyl-(1→4)]-2-(acetylamino)-2-deoxy-; and D-glucose, O-2-deoxy-2-[[(11Z)-1-oxo-11-octadecen-1-yl]amino]-β-D-glucopyranosyl-(1→4)-O-2-(acetylamino)-2-deoxy-β-D-glucopyranosyl-(1→4)-O-2-(acetylamino)-2-deoxy-β-D-glucopyranosyl-(1→4)-O-2-(acetylamino)-2-deoxy-β-D-glucopyranosyl-(1→4)-O-[6-deoxy-α-L-galactopyranosyl-(1→6)]-2-(acetylamino)-2-deoxy-) in or on all food commodities. The petitioner believes no analytical method is needed because, even in the unlikely event that dietary exposure does occur associated with the requested uses, the demonstrated favorable toxicological profile for LCO MOR116 does not present a potential for hazard to humans or the environment. Contact: BPPD

New Tolerances for Non-Inerts

1. PP 7E8616. (EPA-HQ-OPP-2017-0674). Interregional Research Project No. 4 (IR-4), Rutgers, The State University of New Jersey, 500 College Road East, Suite 201W, Princeton, NJ 08540, is proposing, pursuant to section 408(d) of the Federal Food, Drug, and Cosmetic Act (FFDCA), 21 U.S.C. 346a(d), to amend 40 CFR part 180 by establishing a tolerance for residues of the fungicide penthiopyrad, (N-[2-(1,3-dimethylbutyl)-3-thienyl]-1-methyl-3-(trifluoromethyl)-1H-pyrazole-4-carboxamide) in or on the raw agricultural commodities: Brassica, leafy greens, subgroup 4-16B at 50 parts per million (ppm); Bushberry subgroup 13-07B at 6 ppm; Fruit, stone, group 12-12 at 4.0 ppm; Caneberry subgroup 13-07A at 10 ppm; Celtuce at 30 ppm; Fennel, Florence at 30 ppm; Kohlrabi at 5.0 ppm; Leaf petiole vegetable subgroup 22B at 30 ppm; Leafy greens subgroup 4-16A at 30 ppm; Nut, tree, group 14-12 at 0.06 ppm; Oilseed group 20 at 1.5 ppm; and Vegetable, brassica, head and stem, group 5-16 at 5.0 ppm. An analytical enforcement method, liquid chromatograph (LC) equipped with a reverse phase column and a triple quadruple mass spectrometer (MS/MS) detection is available for determining penthiopyrad residues in plants. The limit of quantification (LOQ) is 0.01 ppm for most matrices except for very dry matrices, e.g., pea hay, for which the LOQ is 0.05 ppm. Contact: RD.

2. PP 7E8629. (EPA-HQ-OPP-2017-0671). Interregional Research Project No. 4 (IR-4), IR-4 Project Headquarters, Rutgers, The State University of NJ, 500 College Road East, Suite 201W, Princeton, NJ 08540, requests to establish a tolerance in 40 CFR part 180 for residues of mandipropamid: 4-chloro-N-[2-(3-methoxy-4-(2-propynyloxy)phenyl]ethyl]-alpha-(2-propynyloxy)-benzeneacetamide] in or on the raw agricultural commodities Asparagus bean, edible podded at 0.90 ppm; Bean (Phaseolus spp.), edible podded at 0.90 ppm; Bean (Vigna spp.), edible podded at 0.90 ppm; Brassica, leafy greens, subgroup 4-16B at 25 ppm; Catjang bean, edible podded at 0.90 ppm; Celtuce at 20 ppm; Chinese longbean, edible podded at 0.90 ppm; Citrus, dried pulp at 0.14 ppm; Citrus, oil at 2.2 ppm; Cowpea, edible podded at 0.90 ppm; Florence fennel at 20 ppm; French bean, edible podded 0.90 ppm; Fruit, citrus, group 10-10 at 0.5 ppm; Garden bean, edible podded at 0.90 ppm; Goa bean, edible podded at 0.90 ppm; Green bean, edible podded at 0.90 ppm; Guar bean, edible podded at 0.90 ppm; Jackbean, edible podded at 0.90 ppm; Kidney bean, edible podded at 0.90 ppm; Kohlrabi at 3 ppm; Lablab bean, edible podded at 0.90 ppm; Leaf petiole vegetable subgroup 22B at 20 ppm; Leafy greens subgroup 4-16A at 25 ppm; Moth bean, edible podded at 0.90 ppm; Mung bean, edible podded at 0.90 ppm; Navy bean, edible podded at 0.90 ppm; Rice bean, edible podded at 0.90 ppm; Scarlet runner bean, edible podded at 0.90 ppm; Snap bean, edible podded at 0.90 ppm; Sword bean, edible podded at 0.90 ppm; Urd bean, edible podded at 0.90 ppm; Vegetable soybean, edible podded at 0.90 ppm; Vegetable, brassica, head and stem, group 5-16 at 3 ppm; Velvet bean, edible podded at 0.90 ppm; Wax bean, edible podded at 0.90 ppm; Winged pea, edible podded at 0.90 ppm; Yardlong bean, edible podded at 0.90 ppm. Analytical method RAM 415-01 was developed for determination of mandipropamid residues in crops. Contact: RD.

3. PP 7F8642. EPA-HQ-OPP-2018-0143. Syngenta Crop Protection, LLC, P.O. Box 18300, Greensboro, NC 27419-8300, requests to establish a tolerance in 40 CFR part 180 for residues of the insecticide, abamectin, in or on edible-podded legume vegetables subgroup 6a at 0.03 parts per million (ppm), succulent shelled pea and bean subgroup 6B at 0.005 ppm, and dried shelled pea and bean (except soybean) subgroup 6C at 0.005 ppm. The high performance liquid chromatography (HPLC) analytical method is used to measure and evaluate the chemical abamectin. Contact: RD.

4. PP 7E8644. (EPA-HQ-OPP-2018-0088). Interregional Research Project No. 4 (IR-4), IR-4 Project Headquarters, Rutgers, The State University of NJ, 500 College Road East, Suite 201W, Princeton, NJ 08540, requests to establish a tolerance in 40 CFR part 180 for residues of emamectin, including its metabolites and degradates, determined by measuring only the sum of emamectin (a mixture of a minimum of 90% 4′-epi-methylamino-4′-deoxyavermectin B1a and maximum of 10% 4′-epi-methylamino-4′-deoxyavermectin B1b) and its metabolites 8,9-isomer of the B1a and B1b component of the parent (8,9-ZMA), or 4′-deoxy-4′-epi-amino-avermectin B1a and 4′-deoxy-4′-epi-amino-avermectin B1b; 4′-deoxy-4′-epi-amino avermectin B1a (AB1a); 4′-deoxy-4′-epi-(N-formyl-N-methyl)amino-avermectin (MFB1a); and 4′-deoxy-4′-epi-(N-formyl)amino-avermectin B1a (FAB1a), calculated as the stoichiometric equivalent of emamectin in or on the raw agricultural commodities Artichoke, globe at 0.06 parts per million (ppm), Brassica, leafy greens, subgroup 4-16B at 0.050 ppm, Celtuce at 0.100 ppm, Cherry subgroup 12-12A at 0.10 ppm, Fennel, Florence at 0.100 ppm, Fruit, pome, group 11-10 at 0.025 ppm, Herb subgroup 19A at 0.50 ppm, Kohlrabi at 0.050 ppm, Leafy greens subgroup 4-16A at 0.100 ppm, Leaf petiole vegetable subgroup 22B at 0.100 ppm, Nut, tree, group 14-12 at 0.02 ppm, Vegetable, brassica, head and stem, group 5-16 at 0.050 ppm, and Vegetable, fruiting, group 8-10 at 0.020 ppm. Adequate analytical methods (HPLC-fluorescence methods) are available for enforcement purposes. Contact: RD.

5. PP 7E8645. (EPA-HQ-OPP-2018-0095). Interregional Research Project No. 4 (IR-4), Rutgers, The State University of New Jersey, 500 College Road East, Suite 201W, Princeton, NJ 08540, requests to establish a tolerance in 40 CFR part 180 for residues of the herbicide/soil microbicide nitrapyrin (2-chloro-6-(trichloromethyl) pyridine) and its metabolite, 6-chloropicolinic acid (6-CPA), calculated as the stoichiometric equivalent of nitrapyrin, in or on the raw agricultural commodities: Citrus, dried pulp at 0.094 parts per million (ppm), Citrus, oil at 0.37 ppm, Fruit, citrus, group 10-10 at 0.03 ppm, Leaf petiole vegetable subgroup 22B at 0.4 ppm, Vegetable, brassica, head and stem, group 5-16 at 0.07 ppm, Vegetable, bulb, group 3-07 at 0.3 ppm, and Vegetable, leafy, group 4-16 at 0.3 ppm. Adequate residue analytical methods are available for measuring and enforcing plant tolerances including: Method 205G881A-1 determines residues of nitrapyrin by gas chromatography with electron-impact mass spectrometry detection, and Method 205G881-B1 determines residues of 6-chloropicolinic acid by liquid chromatography with tandem mass spectrometry detection. Both methods have been validated. Contact: RD.

6. PP 7F8646. (EPA-HQ-OPP-2018-0053). BASF Corporation, 26 Davis Dr., P.O. Box 13528, Research Triangle Park, NC 27709, requests to establish a tolerance in 40 CFR part 180 for residues of the insecticide, broflanilide, including its metabolites and degradates, in or on grain, cereal, except rice, group 15; amaranth grain; quinoa, grain; spelt, grain; canihua, grain; chia, grain; cram-cram, grain; huauzontle, grain; teff, grain; corn, sweet, kernel plus cob with husks removed at 0.01 parts per million (ppm) and commodity vegetables, tuberous and corm, subgroup 1C at 0.04 ppm. Tolerances are also requested for cattle, meat; goat, meat; horse, meat; sheep, meat at 0.01 ppm, and commodity milk, fat; poultry, fat at 0.02 ppm, and commodity cattle, fat; sheep, fat; goat, fat at 0.05 ppm. Additionally, tolerances are requested for grain, cereal, forage, fodder and straw, group 16, except rice; quinoa, hay; teff, hay; corn, sweet, stover; corn, sweet, forage at 0.01 ppm, and commodity corn, field, milled products at 0.015 ppm and potato, wet peel at 0.1 ppm for processed commodities. In addition, BASF is proposing to establish a tolerance of 0.01 ppm for residues of Broflanilide in or on all food items in food handling establishments where food and food products are held, processed, prepared and/or served. The independently validated analytical method is used to measure and evaluate the chemical Broflanilide and its metabolites S(PFP-OH)-8007 and DM-8007. An independently validated analytical method has been submitted for analyzing residues of parent Broflanilide plus metabolites DM-8007 and DC-DM-8007 in animal matrices by Liquid chromatography with tandem mass spectrometry (LC-MS/MS). Food handling matrices samples were analyzed for Broflanilide residues using a combination of the plant and animal methods with minor modifications. Contact: RD.

7. PP 7E8648. (EPA-HQ-OPP-2018-0094). Interregional Research Project No.4 (IR-4), Rutgers, The State University of New Jersey, 500 College Road East, Suite 201W, Princeton, NJ 08540, requests to establish a tolerance in 40 CFR part 180 for residues of the fungicide tebuconazole, including its metabolites and degradates. Compliance with the tolerance levels specified is to be determined by measuring only tebuconazole [α-[2-(4-chlorophenyl) ethyl]-α-(1,1-dimethylethyl)-1H-1,2,4-triazole-1-ethanol], in or on the raw agricultural commodities: Brassica, leafy greens, subgroup 4-16B, except watercress at 2.5 parts per million (ppm); Cottonseed subgroup 20C at 2.0 ppm; Fruit, pome, group 11-10 at 1.0 ppm; Fruit, stone, group 12-12, except cherry at 1.0 ppm; Fruit, small, vine climbing, except fuzzy kiwifruit, subgroup 13-07F at 6.0 ppm; Nut, tree, group 14-12 at 0.05 ppm; Sunflower subgroup 20B at 0.1 ppm, Tropical and subtropical, small fruit, inedible peel, subgroup 24A at 1.6 ppm; and Watercress at 9.0 ppm. Practical analytical methods for enforcement purposes in detecting and measuring levels of tebuconazole and the triazole metabolites: 1,2,4-triazole (T), traizole alanine (TA) and the traizole acetic acid (TAA) have been developed and validated in/on all appropriate agricultural commodities and respective processing fractions. Contact: RD.

8. PP 7F8651. (EPA-HQ-OPP-2018-0194). ISK Biosciences Corporation, 7470 Auburn Rd, Suite A, Concord, OH 44077, requests to establish a tolerance in 40 CFR part 180 for residues of the insecticide cylaniliprole on citrus fruit (crop group 10-10) at 0.5 ppm; tuberous & corm vegetables (crop group 1C) at 0.01 ppm; and berry & small fruit (crop subgroup 13-07A, 13-07B, 13-07E except grape, and 13-07G) at 1.5 ppm. Liquid chromatography-MS/MS is used to measure and evaluate the chemical cyclaniliprole residues. Contact: RD

9. PP 7E8652. (EPA-HQ-OPP-2018-0128). The Interregional Research Project Number 4 (IR-4), Rutgers, The State University of New Jersey, 500 College Road East, Suite 201W, Princeton, NJ 08540, requests to establish tolerances in 40 CFR part 180. 317 for residues of the herbicide pronamide (propyzamide), 3,5-dichloro-N-(1,1-dimethyl-2-propynyl)benzamide in or on berry, low growing, except strawberry, subgroup 13-07H at 1 parts per million (ppm), bushberry subgroup 13-07B at 0.05 ppm; caneberry subgroup 13-07A at 0.05 ppm; fruit, pome, group 11-10 at 0.1 ppm; fruit, small, vine climbing, except fuzzy kiwifruit, subgroup 13-07F at 0.1 ppm; and fruit, stone, group 12-12 at 0.1 ppm. The GLC/ECD method listed in the Pesticide Analytical Manual (PAM) Volume II is used to measure and evaluate the chemical. Contact: RD.

10. PP 7E8654. (EPA-HQ-OPP-2018-0161). Interregional Research Project No. 4 (IR-4), IR-4 Project Headquarters, Rutgers, The State University of NJ, 500 College Road East, Suite 201W, Princeton, NJ 08540, requests to establish tolerances for residues of buprofezin, 2-(1,1-dimethylethyl)iminotetrahydro-3(1-methylethyl)-5-phenyl-4H-1,3,5-thiadiazin-4-one in or on the raw agricultural commodities Fig at 0.70 parts per million (ppm), Leafy greens subgroup 4-16A, except head lettuce and radicchio at 35 ppm; Brassica, leafy greens, subgroup 4-16B at 60 parts per million (ppm); Vegetable, brassica, head and stem, group 5-16 at 12.0 ppm; Leaf petiole vegetable subgroup 22B at 35 ppm; Celtuce at 35 ppm; Fennel, Florence at 35 ppm; Kohlrabi at 12.0 ppm; Tropical and subtropical, small fruit, edible peel, subgroup 23A at 5.0 ppm; Tropical and subtropical, small fruit, inedible peel, subgroup 24A at 0.30 ppm; Cottonseed subgroup 20C at 0.35 ppm; Fruit, citrus, group 10-10 at 2.5 ppm; Fruit, stone, group 12-12, except apricot and peach at 2.0 ppm; Fruit, small, vine climbing, except fuzzy kiwifruit, subgroup 13-07F at 2.5 ppm and Nut, tree, group 14-12 at 0.05 ppm. The enforcement analytical methods are available in PAM I and PAM II for the enforcement of buprofezin tolerances, which include gas chromatography methods with nitrogen phosphorus detection (GC/NPD), and a gas chromatography/mass spectrometry (GC/MS) method for confirmation of buprofezin residues in plant commodities. Contact: RD.

11. PP 8E8658. (EPA-HQ-OPP-2018-0127). Interregional Research Project No. 4, (IR-4), Rutgers, The State University of New Jersey, 500 College Road East, Suite 201W, Princeton, NJ 08540 requests, pursuant to section 408(d) of the Federal Food, Drug, and Cosmetic Act (FFDCA), 21 U.S.C. 346a(d), to amend 40 CFR part 180.434 (a) General by establishing a tolerance for residues of propiconazole, including its metabolites and degradates. Compliance with the tolerance levels specified below is to be determined by measuring only those propiconazole residues convertible to 2,4-dichlorobenzoic acid (2,4-DCBA), expressed as the stoichiometric equivalent of propiconazole, in or on the raw agricultural commodities: Avocado, at 0.2 parts per million (ppm); Brassica, leafy greens, subgroup 4-16B, except watercress at 20 ppm; Celtuce at 5.0 ppm; Florence fennel at 5.0 ppm; Leaf petiole vegetable subgroup 22B at 5.0 ppm; Swiss chard at 5.0 ppm, Tomato subgroup 8-10A at 3.0 ppm and Vegetable, root, except sugar beet, subgroup 1B at 0.30 ppm. Analytical methods AG-626 and AG-454A were developed for the determination of residues of propiconazole and its metabolites containing the DCBA moiety. Analytical method AG-626 has been accepted and published by EPA as the tolerance enforcement method for crops. The limit of quantitation (LOQ) for the method is 0.05 ppm. Contact: RD.

12. PP 8E8660. (EPA-HQ-OPP-2018-0275). The Interregional Research Project Number 4 (IR-4), Rutgers, The State University of New Jersey, 500 College Road East, Suite 201W, Princeton, NJ 08540, requests to establish a tolerance in 40 CFR part 180. 446 for residues of the insecticide clofentezine, 3,6-bis(2-chlorophenyl)-1,2,4,5-tetrazine in or on guava at 1 part per million (ppm). The analytical method for residues of clofentezine in fruit (Western Red Delicious Apples) by high-performance liquid chromatography (HPLC) and ultra violet (UV) Detection” is used to measure and evaluate the chemical. Contact: RD.

13. PP 8E8664. (EPA-HQ-OPP-2018-0143). Interregional Research Project No. 4 (IR-4), IR-4 Project Headquarters, Rutgers, The State University of NJ, 500 College Road East, Suite 201 W, Princeton, NJ 08540, requests to establish tolerances for residues of abamectin, including its metabolites and degradates, in or on the following commodities. Compliance with the tolerance levels is to be determined by measuring only avermectin B1 a mixture of avermectins containing greater than or equal to 80% avermectin B1 a (5-O-demethyl avermectin A1) and less than or equal to 20% avermectin B1b (5-O-demethyl-25-de(1-methylpropyl)-25-(1-methylethyl) avermectin A1) and its delta-8,9-isomer in or on the raw agricultural commodities: Arugula at 0.10 parts per million (ppm), Carrot, roots at 0.03 ppm, Celtuce at 0.10 ppm, Fennel, Florence at 0.10 ppm, Garden cress at 0.10 ppm, Leaf petiole vegetable subgroup 22B at 0.10 ppm, Leafy greens subgroup 4-16A at 0.10 ppm, Tropical and subtropical, small fruit, inedible peel, subgroup 24A at 0.01 ppm, and Upland cress at 0.10 ppm. The analytical methods involve homogenization, filtration, partition, and cleanup with analysis by high performance liquid chromatography (HPLC)-fluorescence detection. The methods are sufficiently sensitive to detect residues at or above the tolerances proposed. All methods have undergone independent laboratory validation. Contact: RD.

14. PP 8E8666. (EPA-HQ-OPP-2018-0179). Interregional Research Project No. 4 (IR-4), IR-4 Project Headquarters, Rutgers, The State University of NJ, 500 College Road East, Suite 201 W, Princeton, NJ 08540, requests to establish tolerances for residues of sulfoxaflor ((N-methyloxido1-6-(trifluoromethyl)-3-pyridinyl]ethyl]-γ4-sulfanylidene]cyanamide) in or on the raw agricultural commodities: Artichoke, globe at 0.70 parts per million (ppm), Asparagus at 0.015 ppm, Brassica, leafy greens, subgroup 4-16B, except watercress at 2.0 ppm, Bushberry subgroup 13-07B at 2.0 ppm, Caneberry subgroup 13-07A at 1.5 ppm, Celtuce at 2.0 ppm, Florence fennel at 2.0 ppm, Fruit, stone, group 12-12 at 3.0 ppm, Kohlrabi at 2.0 ppm, Leafy greens subgroup 4-16A at 6.0 ppm, Leaf petiole vegetable subgroup 22B at 2.0 ppm, Nut, tree, group 14-12 at 0.015 ppm, Sunflower subgroup 20B at 0.30 ppm, and Vegetable, brassica, head and stem, group 5-16, except cauliflower at 2.0 ppm. Analytical method 091116, “Enforcement Method for the Determination of Sulfoxaflor (XDE-208) and its Main Metabolites in Agricultural Commodities using Offline Solid-Phase Extraction and Liquid Chromatography with Tandem Mass Spectrometry Detection” was validated on a variety of plant matrices. Contact: RD.

15. PP 8E8667. (EPA-HQ-OPP-2018-0273). Interregional Research Project No.4 (IR-4), Rutgers, The State University of New Jersey, 500 College Road East, Suite 201W, Princeton, NJ 08540, requests to establish a tolerance in 40 CFR part 180 for residues of the insecticide flonicamid, including its metabolites and degradates, determined by measuring only the sum of flonicamid, N-(cyanomethyl)-4-(trifluoromethyl)-3-pyridinecarboxamide, and its metabolites, TFNA (4-trifluoromethylnicotinic acid), TFNA-AM (4-trifluoromethylnicotinamide), and TFNG, N-(4-trifluoromethylnicotinoyl)glycine, calculated as the stoichiometric equivalent of flonicamid, in or on raw agricultural commodities as follows: Sunflower subgroup 20B at 0.70 parts per million (ppm). Analytical methodology to determine above designated residues of flonicamid for the majority of crops includes an initial extraction with acetonitrile (ACN)/deionized (DI) water, followed by a liquid-liquid partition with ethyl acetate. The final sample solution is quantitated using a liquid chromatograph (LC) equipped with a reverse phase column and a triple quadruple mass spectrometer (MS/MS). Contact: RD.

16. PP 8E8673. (EPA-HQ-OPP-2018-0286). Interregional Research Project Number 4 (IR-4), Rutgers, The State University of New Jersey, 500 College Road East, Suite 201W, Princeton, NJ 08540, requests to establish a tolerance in 40 CFR part 180. 414 for residues of the insecticide cyromazine, (N-cyclopropyl-1,3,5-triazine-2,4,6-triamine) in or on Brassica, leafy greens, subgroup 4-16B at 10.0 parts per million (ppm); Celtuce at 7.0 ppm; Chickpea, edible podded at 0.4 ppm; Chickpea, succulent shelled at 0.3 ppm; Dwarf pea, edible podded at 0.4 ppm; Edible podded pea, edible podded at 0.4 ppm; English pea, succulent shelled at 0.3 ppm; Florence fennel at 7.0 ppm; Garden pea, succulent shelled at 0.3 ppm; Grass-pea, edible podded at 0.4 ppm; Green pea, edible podded at 0.4 ppm; Green pea, succulent shelled at 0.3 ppm; Kohlrabi at 10.0 ppm; Leaf petiole subgroup 22B at 7.0 ppm; Leafy green subgroup 4-16A at 7.0 ppm; Lentil, edible podded at 0.4 ppm; Lentil, succulent shelled at 0.3 ppm; Onion, bulb, subgroup 3-07A at 0.2 ppm; Onion, green, subgroup 3-07B at 3.0 ppm; Pepper/eggplant 8-10B at 1.0 ppm; Pigeon pea, edible podded at 0.4 ppm; Pigeon pea, succulent shelled at 0.3 ppm; Snap pea, edible podded at 0.4 ppm; Snow pea, edible podded at 0.4 ppm; Sugar snap pea, edible podded at 0.4 ppm; Tomato subgroup 8-10A at 1.0 ppm; Vegetable, brassica, head and stem, group 5-16, except broccoli at 10.0 ppm; and Vegetable, tuberous and corm, subgroup 1C at 0.8 ppm. The analytical methods AG-408 and AG-417 are used to measure and evaluate the chemical cyromazine. Contact: RD.

17. PP 8E8678. EPA-HQ-OPP-2018-0300. Dow AgroSciences, 9330 Zionsville Road, Indianapolis, IN 46268, requests to establish import tolerance in 40 CFR part 180 for residues of the fungicide fenbuconazole (alpha-(2-(4-chlorophenyl)ethyl]-alpha-phenyl-3-(1H-1,2,4-triazole)-1-propanenitrile) and its metabolites cis and trans-5-(4-chlorophenyl)-dihydro-3-phenyl-3-(1H-1,2,4-triazole-1-ylmethyl)-2-3H-furanone) in or on the raw agricultural commodities tea, dried at 10 parts per million (ppm); and tea, instant at 10 ppm. The analytical methodology column chromatography and nitrogen -phosphorus detection (NPD) gas chromatography detection is used to measure and evaluate the chemical fenbuconazole. Contact: RD.

18. PP 8F8661. EPA-HQ-OPP-2018-0297. Cheminova A/S, P.O. Box 9, DK-7620, Lemvig, Denmark and on behalf of FMC Corporation, 2929 Walnut Street, Philadelphia, PA 19104, requests to establish tolerance in 40 CFR part 180 for residues of the fungicide flutriafol [chemical name (±)‐α‐(2‐fluorophenyl‐α‐(4‐fluorophenyl)‐1H‐1,2,4‐triazole‐1‐ethanol] in or on the raw agricultural commodities alfalfa, forage at 15 parts per million (ppm); alfalfa, hay at 50 ppm; barley, grain at 1.5 ppm; barley, hay at 7.0 ppm; barley, straw at 8.0 ppm; corn, sweet, forage at 9.0 ppm; corn, sweet, kernels plus cobs with husks removed at 0.03 ppm; corn, sweet, stover at 8 ppm; rice, bran at 0.4 ppm; rice, grain at 0.5 ppm; rice, hulls at 1.5 ppm; and rice, straw at 0.9 ppm. The analytical methodology gas chromatography (GC) employing mass selective (MSD) detection and or HPLC/UPLC employing tandem mass spectrometric (MS/MS) detection is used to measure and evaluate the chemical flutriafol. Contact: RD.

Authority: 21 U.S.C. 346a.

Dated: July 10, 2018.
Hamaad Syed,
Acting Director, Information Technology and Resources Management Division, Office of Pesticide Programs.

[FR Doc. 2018-15722 Filed 7-23-18; 8:45 am]

BILLING CODE 6560-50-P